MORRIS K. UDALL AND STEWART L. UDALL FOUNDATION

Notice of Sunshine Act Meetings

TIME AND DATE: 9:00 a.m. to 5:00 p.m., Friday, November 9, 2012.

PLACE: Westward Look Wyndham Grand Resort & Spa, 245 E. Ina Road, Tucson, Arizona 85704.

STATUS: This meeting will be open to the public, unless it is necessary for the Board to consider items in executive session.

MATTERS TO BE CONSIDERED: (1) Minutes of the May 22, 2012, Board of Trustees Meeting; (2) Udall Foundation Bylaws; (3) Parks in Focus Fund, Inc., Conflict of Interest Waiver; (4) Workplan of the Udall Center, Native Nations Institute, and Udall Archives; (5) Transfer of funds to the Native Nations Institute; (6) Draft report from the U.S. Department of the Interior's Inspector General regarding the Udall Foundation audit; and (7) Personnel matters.

PORTIONS OPEN TO THE PUBLIC: All agenda items except as noted below.

PORTIONS CLOSED TO THE PUBLIC: Executive session to hear the draft report from the U.S. Department of the Interior's Inspector General regarding the Udall Foundation audit and to review personnel matters.

CONTACT PERSON FOR MORE INFORMATION: Philip J. Lemanski, Deputy Executive Director for Finance and Education, 130 South Scott Avenue, Tucson, AZ 85701, (520) 901-8500.

Dated: October 19, 2012.
Philip J. Lemanski,
Deputy Executive Director for Finance and Education, Morris K. Udall and Stewart L. Udall Foundation, and Federal Register Liaison Officer.

[FR Doc. 2012-26281 Filed 10-25-12; 8:45 am]

BILLING CODE 6820-FN-M